DEPARTMENT OF COMMERCE

International Trade Administration

Vanderbilt University, et al.; Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 02-020. Applicant: Vanderbilt University, Nashville, TN 37232. Instrument: Electron Microscope, Model Tecnai G2 F30 TWIN Helium. Manufacturer: FEI Company, The Netherlands. Intended Use: See notice at 67 FR 44424, July 2, 2002. Order Date: December 12, 2001.

Docket Number: 02-022 Applicant: National Institutes of Health, Bethesda, MD 20892-5766. Instrument: Electron Microscope, Model Tecnai TF30T. Manufacturer: FEI Company, The Netherlands. Intended Use: See notice at 67 FR 44424, July 2, 2002. Order Date: March 20, 2002.

Docket Number: 02-023. Applicant: University of California, Los Alamos National Laboratory, Los Alamos, NM 87545. Instrument: Electron Microscope, Model Tecnai G2 F30 TWIN. Manufacturer: FEI Company, The Netherlands. Intended Use: See notice at 67 FR 44425, July 2, 2002. Order Date: December 14, 2001.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order of each instrument.

Gerald A. Zerdy,
Program Manager, Statutory Import Programs Staff.

[FR Doc. 02-19012 Filed 7-25-02; 8:45 am]

BILLING CODE 3510-DS-P